DEPARTMENT OF ENERGY

Federal Energy Regulatory Commission

Combined Notice of Filings #1

Take notice that the Commission received the following electric corporate filings:

Docket Numbers: EC25-146-000.

Applicants: American Powernet Management, LP, APN Starfirst, LP.

Description: Joint Application for Authorization Under Section 203 of the Federal Power Act of American PowerNet Management, LP, et al.

Filed Date: 9/19/25.

Accession Number: 20250919-5172.

Comment Date: 5 p.m. ET 10/10/25.

Take notice that the Commission received the following exempt wholesale generator filings:

Docket Numbers: EG25-534-000.

Applicants: Leaning Juniper 2B, LLC.

Description: Leaning Juniper 2B, LLC submits Notice of Self-Certification of Exempt Wholesale Generator Status.

Filed Date: 9/19/25.

Accession Number: 20250919-5162.

Comment Date: 5 p.m. ET 10/10/25.

Take notice that the Commission received the following electric rate filings:

Docket Numbers: ER24-1156-004.

Applicants: Florida Power & Light Company.

Description: Compliance filing: Order Nos. 2023 and 2023-A Fourth Compliance Filing to be effective 4/1/2024.

Filed Date: 9/22/25.

Accession Number: 20250922-5089.

Comment Date: 5 p.m. ET 10/14/25.

Docket Numbers: ER25-3017-001.

Applicants: Hashknife Energy Center LLC.

Description: Tariff Amendment: Hashknife Energy Center MBR Supp to be effective 7/31/2025.

Filed Date: 9/19/25.

Accession Number: 20250919-5166.

Comment Date: 5 p.m. ET 10/10/25.

Docket Numbers: ER25-3029-001.

Applicants: Tibbits Energy Storage LLC.

Description: Tariff Amendment: Amendment to 3 to be effective 9/29/2025.

Filed Date: 9/22/25.

Accession Number: 20250922-5059.

Comment Date: 5 p.m. ET 10/14/25.

Docket Numbers: ER25-3039-000.

Applicants: AL Solar G, LLC.

Description: Second Supplement to 07/31/2025, AL Solar G, LLC tariff filing.

Filed Date: 9/19/25.

Accession Number: 20250919-5175.

Comment Date: 5 p.m. ET 9/24/25.

Docket Numbers: ER25-3479-000.

Applicants: Southwestern Electric Power Company.

Description: 205(d) Rate Filing: Revisions to Power Supply Agreements—SWEPCO Rate Schedules 119 and 129 to be effective 11/19/2025.

Filed Date: 9/19/25.

Accession Number: 20250919-5163.

Comment Date: 5 p.m. ET 5 p.m. ET 10/10/25.

Docket Numbers: ER25-3480-000.

Applicants: MATL LLP.

Description: 205(d) Rate Filing: MATL Entry into Power Watch BA Filing to be effective 12/31/9998.

Filed Date: 9/22/25.

Accession Number: 20250922-5039.

Comment Date: 5 p.m. ET 10/14/25.

Docket Numbers: ER25-3481-000.

Applicants: MATL LLP.

Description: 205(d) Rate Filing: MATL Entry to WEIM OATT Amendments to be effective 5/1/2026.

Filed Date: 9/22/25.

Accession Number: 20250922-5041.

Comment Date: 5 p.m. ET 10/14/25.

Docket Numbers: ER25-3482-000.

Applicants: Duke Energy Progress, LLC.

Description: 205(d) Rate Filing: DEP—Recovery of Cost of Coal Contracts to be effective 9/23/2025.

Filed Date: 9/22/25.

Accession Number: 20250922-5093.

Comment Date: 5 p.m. ET 10/14/25.

Docket Numbers: ER25-3483-000.

Applicants: Duke Energy Carolinas, LLC.

Description: 205(d) Rate Filing: DEC-Recovery of Cost of Coal Contracts to be effective 9/23/2025.

Filed Date: 9/22/25.

Accession Number: 20250922-5096.

Comment Date: 5 p.m. ET 10/14/25.

Take notice that the Commission received the following electric securities filings:

Docket Numbers: ES25-80-000.

Applicants: Midcontinent Independent System Operator, Inc.

Description: Application Under Section 204 of the Federal Power Act for Authorization to Issue Securities of Midcontinent Independent System Operator, Inc.

Filed Date: 9/19/25.

Accession Number: 20250919-5171.

Comment Date: 5 p.m. ET 10/10/25.

Docket Numbers: TS25-4-000.

Applicants: Gainesville Regional Utilities.

Description: Gainesville Regional Utilities submits Request for Waiver of Standards of Conduct Requirements.

Filed Date: 9/15/25.

Accession Number: 20250915-5158.

Comment Date: 5 p.m. ET 10/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 22, 2025.
Carlos D. Clay,
Deputy Secretary.

[FR Doc. 2025-18597 Filed 9-24-25; 8:45 am]

BILLING CODE 6717-01-P